NUCLEAR REGULATORY COMMISSION

[NRC-2017-0058]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from January 31, 2017 to February 13, 2017. The last biweekly notice was published on February 14, 2017.

DATES: Comments must be filed March 30, 2017. A request for a hearing must be filed May 1, 2017.

ADDRESSES: You may submit comments by any of the following methods:

• Federal Rulemaking Web site: Go to http://www.regulations.gov and search for Docket ID NRC-2017-0058. Address questions about NRC dockets to Carol Gallagher; telephone: 301-415-3463; email: Carol.Gallagher@nrc.gov. For technical questions, contact the individual or individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington DC 20555-0001; telephone: 301-415-3475, email: Beverly.Clayton@nrc.gov.

SUPPLEMENTARY INFORMATION:

I. Obtaining Information and Submitting Comments

A. Obtaining Information

Please refer to Docket ID NRC-2017-0058, facility name, unit number(s), plant docket number, application date, and subject when contacting the NRC about the availability of information for this action. You may obtain publicly-available information related to this action by any of the following methods:

• Federal Rulemaking Web site: Go to http://www.regulations.gov and search for Docket ID NRC-2017-0058.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0058, facility name, unit number(s), plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by May 1, 2017. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Florida Power & Light Company, et al., Docket No. 50-335 and 50-389, St. Lucie Plant, Unit Nos. 1 and 2, St. Lucie County, Florida

Date of amendment request: December 22, 2016. A publicly-available version is in ADAMS under Accession No. ML17006A007.

Description of amendment request: The amendments would relocate the Component Cyclic or Transient Limits Program requirements to the Administrative Controls sections of the Technical Specifications (TSs), and relocate the Component Cyclic or Transient Limits tables detailing the allowable limits from the respective TSs to licensee-controlled documents.

Basis for proposed no significant hazards consideration determination: As required by 10 CFR 50.91(a), the licensee has provided its analysis of the issue of no significant hazards consideration, which is presented below:

1. Does the proposed amendment involve a significant increase in the probability or consequences of an accident previously evaluated?

Response: No.

The relocation of Component Cyclic or Transient Limits Table 5.9-1 and Table 5.7-1 from the St. Lucie Unit 1 and Unit 2 TS[s], to the St. Lucie Unit 1 and Unit 2 UFSARs [Updated Final Safety Analysis Reports], and the relocation of the Component Cyclic or Transient Limits Program requirements within the St. Lucie Unit 1 and Unit 2 TS[s] are administrative changes in nature. The TS changes do not represent any physical change to plant systems, structures, or components, or to procedures established for plant operation. As such, the initial conditions associated with accidents previously evaluated and plant systems credited for mitigating the consequences of accidents previously evaluated remain unchanged.

Therefore, facility operation in accordance with the proposed license amendments would not involve a significant increase in the probability or consequences of an accident previously evaluated.

2. Does the proposed amendment create the possibility of a new or different kind of accident from any accident previously evaluated?

Response: No.

The relocation of Component Cyclic or Transient Limits tables from the St. Lucie Unit 1 and Unit 2 TS[s], to the St. Lucie Unit 1 and Unit 2 UFSARs, and the relocation of the Component Cyclic or Transient Limits Program requirements within the St. Lucie Unit 1 and Unit 2 TS[s] are administrative changes in nature. No physical change to plant systems, structures, or components, or the manner in which they are operated and maintained will result from the proposed license amendments.

Therefore, the proposed change does not create the possibility of a new or different kind of accident from any previously evaluated.

3. Does the proposed amendment involve a significant reduction in a margin of safety?

Response: No.

The relocation of Component Cyclic or Transient Limits tables from the St. Lucie Unit 1 and Unit 2 TS[s], to the St. Lucie Unit 1 and Unit 2 UFSARs, and the relocation of the Component Cyclic or Transient Limits Program requirements within the St. Lucie Unit 1 and Unit 2 TS[s] are administrative changes in nature. As such, the proposed changes do not involve changes to any safety analyses assumptions, safety limits, or limiting safety system settings nor do they adversely impact plant operating margins or the reliability of equipment credited in safety analyses.

Therefore, operation of the facility in accordance with the proposed amendment will not involve a significant reduction in the margin of safety.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light Company, 700 Universe Boulevard, MS LAW/JB, Juno Beach, FL 33408-0420.

NRC Branch Chief: Benjamin G. Beasley.

Indiana Michigan Power Company (I&M), Docket Nos. 50-315 and 50-316, Donald C. Cook Nuclear Plant (CNP), Units 1 and 2, Berrien County, Michigan

Date of amendment request: December 14, 2016. A publicly-available version is in ADAMS under Accession No. ML16351A198.

Description of amendment request: The proposed changes would revise the note regarding applicability of the limiting condition for operation (LCO) for CNP Technical Specification (TS) 3.9.3, “Containment Penetrations.”

Basis for proposed no significant hazards consideration determination: As required by 10 CFR 50.91(a), the licensee has provided its analysis of the issue of no significant hazards consideration, which is presented below:

1. Does the proposed change involve a significant increase in the probability or consequences of an accident previously evaluated?

Response: No.

The accident in question for this submittal is the FHA [fuel-handling accident]. The analysis for the FHA was recently reviewed and approved by the NRC for a license amendment request regarding use of alternative source term. The proposed amendment to TS 3.9.3 does not impact the assumed release pathway for the accident and has no effect on the probability of the occurrence of any accident previously evaluated. The proposed change does not alter any plant equipment or operating practices in such a manner that the probability of an accident previously evaluated is increased. The consequences of [an] FHA inside the containment building with open penetration flow paths is bounded by the current FHA analyses and administrative controls, so the probability of an accident is not affected by the status of the penetration flow paths.

Therefore, the probability or consequences of an accident previously evaluated will not be significantly increased.

2. Does the proposed change create the possibility of a new or different kind of accident from any accident previously evaluated?

Response: No.

Allowing penetration flow paths to be open is not an initiator for any accident. The change impacts the containment requirements during refueling operations. The only accident which could result in significant releases of radioactivity during refueling is the FHA. The proposed change does not affect the design of containment, or alter plant operating practices such that it creates the possibility of a new or different kind of accident from any accident previously evaluated. The proposed allowance to open any containment penetration under administrative controls during fuel movement will not adversely affect plant safety functions such that a new or different accident could be created. No other initiators or accident precursors are created by this change.

Therefore, the possibility of a new or different kind of accident not previously evaluated is not created.

3. Does the proposed change involve a significant reduction in a margin of safety?

Response: No.

TS 3.9.3 closure requirements for containment penetrations ensure that the consequences of a postulated FHA inside containment during irradiated fuel handling activities are minimized. The LCO establishes containment closure requirements, which limit the potential escape paths for fission products by ensuring that there is at least one barrier to the release of radioactive material. The proposed change to allow any containment penetration flow path to be open during refueling operations under administrative controls does not significantly affect the expected dose consequences of [an] FHA because the limiting FHA does not credit containment building closure or filtration. The administrative controls provide assurance that closure of the applicable penetration flow paths will be accomplished and that the offsite dose consequences will be minimized in the event of [an] FHA inside the containment building.

Therefore, this proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: David J. Wrona.

South Carolina Electric & Gas Company and South Carolina Public Service Authority, Docket Nos. 52-027 and 52-028, Virgil C. Summer Nuclear Station Units 2 and 3, Fairfield County, South Carolina

Date of amendment request: January 20, 2017. A publicly-available version is in ADAMS under Accession No. ML17020A097.

Description of amendment request: The requested amendment proposes to depart from Tier 2* information in the Updated Final Safety Analysis Report to address the seismic Category and AP1000 equipment class of nonsafety-related instrumentation that interfaces with safety-related pressure boundaries.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to nonsafety-related instrument classification methodology will allow nonsafety-related instrumentation connected to safety-related systems to be appropriately qualified to withstand a safe shutdown earthquake without adversely affecting a safety-related pressure boundary. The safe shutdown fire analysis is not affected, and the fire protection analysis results are not adversely affected. The proposed changes do not involve any accident, initiating event or component failure; thus, the probabilities of the accidents previously evaluated are not affected. The proposed change does not adversely affect compliance with the maximum allowable reactor coolant system operational leakage rates specified in the Technical Specifications, and radiological material release source terms are not affected; thus, the radiological releases in the accident analyses are not affected.

Therefore, the proposed amendment does not involve a significant increase in the probability or consequences of an accident previously evaluated.

2. Does the proposed amendment create the possibility of a new or different kind of accident from any accident previously evaluated?

Response: No.

The proposed changes to nonsafety-related instrument classification methodology will allow nonsafety-related instrumentation connected to safety-related systems to be appropriately qualified to withstand a safe shutdown earthquake without adversely affecting a safety-related pressure boundary. The proposed changes do not adversely affect any safety-related system, structure, or component. The nonsafety-related instrumentation provides information for nonsafety-related display and does not control any safety-related feature. Thus, the proposed changes do not introduce a new failure mode. The proposed changes to the nonsafety-related instrument classification methodology do not create a new fault or sequence of events that could result in a radioactive material release.

Therefore, the proposed amendment does not create the possibility of a new or different kind of accident from any accident previously evaluated.

3. Does the proposed amendment involve a significant reduction in a margin of safety?

Response: No.

The proposed changes to nonsafety-related instrument classification methodology will allow nonsafety-related instrumentation connected to safety-related systems to be appropriately qualified to withstand a safe shutdown earthquake without adversely affecting a safety-related pressure boundary. The upgrade in the qualification of the sensing lines and associated instrument isolation valves does not affect the function of the safety-related systems to which they are connected. No safety analysis or design basis acceptance limit/criterion is challenged or exceeded by the proposed change, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius, LLC, 1111 Pennsylvania Avenue NW., Washington, DC 20004-2514.

NRC Branch Chief: Jennifer Dixon-Herrity.

Southern Nuclear Operating Company, Inc., Docket Nos. 52-025 and 52-026, Vogtle Electric Generating Plant Units 3 and 4, Burke County, Georgia

Date of amendment request: December 16, 2016, as supplemented by letter dated January 12, 2017. A publicly-available version is in ADAMS under Accession Nos. ML16351A483 and ML17012A272, respectively.

Description of amendment request: The requested amendment proposes to depart from Tier 2* information in the Updated Final Safety Analysis Report to address the seismic Category and AP1000 equipment class of nonsafety-related instrumentation that interfaces with safety-related pressure boundaries.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to nonsafety-related instrument classification methodology will allow nonsafety-related instrumentation connected to safety-related systems to be appropriately qualified to withstand a safe shutdown earthquake without adversely affecting a safety-related pressure boundary. The safe shutdown fire analysis is not affected, and the fire protection analysis results are not adversely affected. The proposed changes do not involve any accident, initiating event or component failure; thus, the probabilities of the accidents previously evaluated are not affected. The proposed change does not adversely affect compliance with the maximum allowable reactor coolant system operational leakage rates specified in the Technical Specifications, and radiological material release source terms are not affected; thus, the radiological releases in the accident analyses are not affected.

Therefore, the proposed amendment does not involve a significant increase in the probability or consequences of an accident previously evaluated.

2. Does the proposed amendment create the possibility of a new or different kind of accident from any accident previously evaluated?

Response: No.

The proposed changes to nonsafety-related instrument classification methodology will allow nonsafety-related instrumentation connected to safety-related systems to be appropriately qualified to withstand a safe shutdown earthquake without adversely affecting a safety-related pressure boundary. The proposed changes do not adversely affect any safety-related system, structure, or component. The nonsafety-related instrumentation provides information for nonsafety-related display and does not control any safety-related feature. Thus, the proposed changes do not introduce a new failure mode. The proposed changes to the nonsafety-related instrument classification methodology do not create a new fault or sequence of events that could result in a radioactive material release.

Therefore, the proposed amendment does not create the possibility of a new or different kind of accident from any accident previously evaluated.

3. Does the proposed amendment involve a significant reduction in a margin of safety?

Response: No.

The proposed changes to nonsafety-related instrument classification methodology will allow nonsafety-related instrumentation connected to safety-related systems to be appropriately qualified to withstand a safe shutdown earthquake without adversely affecting a safety-related pressure boundary. The upgrade in the qualification of the sensing lines and associated instrument isolation valves does not affect the function of the safety-related systems to which they are connected. No safety analysis or design basis acceptance limit/criterion is challenged or exceeded by the proposed change, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Jennifer Dixon-Herrity.

Southern Nuclear Operating Company, Inc., Docket Nos. 50-424 and 50-425, Vogtle Electric Generating Plant, Units 1 and 2, Burke County, Georgia; Docket Nos. 50-348 and 50-364, Joseph M. Farley Nuclear Plant, Units 1 and 2, Houston County, Alabama; Docket Nos. 50-321 and 50-366, Edwin I. Hatch Nuclear Plant, Units 1 and 2, Appling County, Georgia

Date of amendment request: December 1, 2016. A publicly-available version is in ADAMS under Accession No. ML16340A005.

Description of amendment request: The amendments would modify the technical specifications requirements in Section 1.3 and Section 3.0 regarding Limiting Condition for Operation (LCO) and Surveillance Requirement (SR) usage. These changes are consistent with NRC-approved Technical Specifications Task Force (TSTF) Traveler TSTF-529, “Clarify Use and Application Rules.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to Section 1.3 and LCO 3.0.4 have no effect on the requirement for systems to be Operable and have no effect on the application of TS actions. The proposed change to SR 3.0.3 states that the allowance may only be used when there is a reasonable expectation the surveillance will be met when performed. Since the proposed change does not significantly affect system Operability, the proposed change will have no significant effect on the initiating events for accidents previously evaluated and will have no significant effect on the ability of the systems to mitigate accidents previously evaluated.

Therefore, it is concluded that this change does not involve a significant increase in the probability or consequences of an accident previously evaluated.

2. Does the proposed amendment create the possibility of a new or different kind of accident from any accident previously evaluated?

The proposed change to the TS usage rules does not affect the design or function of any plant systems. The proposed change does not change the Operability requirements for plant systems or the actions taken when plant systems are not operable.

Therefore, it is concluded that this change does not create the possibility of a new or different kind of accident from any accident previously evaluated.

3. Does the proposed changes involve a significant reduction in a margin of safety?

The proposed change clarifies the application of Section 1.3 and LCO 3.0.4 and does not result in changes in plant operation. SR 3.0.3 is revised to allow application of SR 3.0.3 when a SR has not been previously performed if there is a reasonable expectation that the SR will be met when performed. This expands the use of SR 3.0.3 while ensuring the affected system is capable of performing its safety function. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel of Operations and Nuclear, Southern Nuclear Operating Company, 40 Iverness Center Parkway, Birmingham, AL 35201.

NRC Branch Chief: Michael T. Markley.

Southern Nuclear Operating Company, Inc., Docket Nos. 50-424 and 50-425, Vogtle Electric Generating Plant, Units 1 and 2, Burke County, Georgia

Date of amendment request: November 15, 2016, as supplemented by letter dated January 13, 2017. Publicly-available versions are in ADAMS under Accession Nos. ML16320A207 and ML17013A603, respectively.

Description of amendment request: The amendments would modify the TS requirements to operate ventilation systems with charcoal filters from 10 hours to 15 minutes each month in accordance with TSTF-522, Revision 0, “Revise Ventilation System Surveillance Requirements to Operate for 10 hours per Month.” The NRC approved TSTF-522, Revision 0, as a part of the consolidated line item improvement process on September 20, 2012 (77 FR 58421).

Basis for proposed no significant hazards consideration determination: As required by 10 CFR 50.91(a), the licensee has provided its analysis of the issue of no significant hazards consideration, which is presented below:

1. Does the proposed change involve a significant increase in the probability or consequences of an accident previously evaluated?

Response: No.

The proposed change replaces an existing Surveillance Requirement to operate the Westinghouse CREFS [Control Room Emergency Filtration System] equipped with electric heaters for a continuous 10 hour period at a frequency specified in the SFCP [Surveillance Frequency Control Program] with a requirement to operate the systems for 15 continuous minutes with heaters operating, if needed.

This system is not an accident initiator and therefore, these changes do not involve a significant increase in the probability of an accident. The proposed system and filter testing changes are consistent with current regulatory guidance for these systems and will continue to assure that these systems perform their design function which may include mitigating accidents. Thus the change does not involve a significant increase in the consequences of an accident.

Therefore, it is concluded that this change does not involve a significant increase in the probability or consequences of an accident previously evaluated.

2. Does the proposed change create the possibility of a new or different kind of accident from any accident previously evaluated?

The proposed change replaces an existing Surveillance Requirement to operate the Westinghouse CREFS system equipped with electric heaters for a continuous 10 hour period at a frequency specified in the SFCP with a requirement to operate the system for 15 continuous minutes with heaters operating, if needed.

The change proposed for these ventilation systems does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

The proposed change replaces an existing Surveillance Requirement to operate the Westinghouse CREFS systems equipped with electric heaters for a continuous 10 hour period at a frequency specified in the SFCP with a requirement to operate the systems for 15 continuous minutes with heaters operating, if needed.

The design basis for the ventilation systems' heaters is to heat the incoming air which reduces the relative humidity. The heater testing change proposed will continue to demonstrate that the heaters are capable of heating the air and will perform their design function. The proposed change is consistent with regulatory guidance.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Michael T. Markley.

Southern Nuclear Operating Company, Inc., Docket Nos. 50-424 and 50-425, Vogtle Electric Generating Plant, Units 1 and 2, Burke County, Georgia

Date of amendment request: November 15, 2016. A publicly-available version is in ADAMS under Accession No. ML16320A214.

Description of amendment request: The amendments would modify the technical specifications (TS) by relocating references to specific American Society for Testing and Materials (ASTM) standards for fuel oil testing to licensee-controlled documents and adding alternate criteria to the “clear and bright” acceptance test for new fuel oil. These TS changes will be performed in accordance with technical specification task force (TSTF) traveler TSTF-374, Revision 0, “Diesel Fuel Oil Testing Program.” The NRC approved TSTF-374, Revision 0, as a part of the consolidated line item improvement process on April 21, 2006 (71 FR 20735).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes relocate the specific ASTM standard references from the Administrative Controls Section of TS to a licensee-controlled document. Requirements to perform testing in accordance with applicable ASTM standards are retained in the TS as are requirements to perform surveillances of both new and stored diesel fuel oil. Future changes to the licensee-controlled document will be evaluated pursuant to the requirements of 10 CFR 50.59, “Changes, tests and experiments,” to ensure that such changes do not result in more than a minimal increase in the probability or consequences of an accident previously evaluated. In addition, the “clear and bright” test used to establish the acceptability of new fuel oil for use prior to addition to storage tanks has been expanded to recognize more rigorous testing of water and sediment content. Relocating the specific ASTM standard references from the TS to a licensee-controlled document and allowing a water and sediment content test to be performed to establish the acceptability of new fuel oil will not affect nor degrade the ability of the emergency diesel generators (DGs) to perform their specified safety function. Fuel oil quality will continue to meet ASTM requirements.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed amendment create the possibility of a new or different kind of accident from any accident previously evaluated?

The proposed changes relocate the specific ASTM standard references from the Administrative Controls Section of TS to a licensee-controlled document. In addition, the “clear and bright” test used to establish the acceptability of new fuel oil for use prior to addition to storage tanks has been expanded to allow a water and sediment content test to be performed to establish the acceptability of new fuel oil. The changes do not involve a physical alteration of the plant (i.e., no new or different type of equipment will be installed) or a change in the methods governing normal plant operation. The requirements retained in the TS continue to require testing of the diesel fuel oil to ensure the proper functioning of the DGs.

Therefore, the changes do not create the possibility of a new or different kind of accident from any accident previously evaluated.

3. Does the proposed changes involve a significant reduction in a margin of safety?

The proposed changes relocate the specific ASTM standard references from the Administrative Controls Section of TS to a licensee-controlled document. Instituting the proposed changes will continue to ensure the use of applicable ASTM standards to evaluate the quality of both new and stored fuel oil designated for use in the emergency DGs. Changes to the licensee-controlled document are performed in accordance with the provisions of 10 CFR 50.59. This approach provides an effective level of regulatory control and ensures that diesel fuel oil testing is conducted such that there is no significant reduction in a margin of safety. The “clear and bright” test used to establish the acceptability of new fuel oil for use prior to addition to storage tanks has been expanded to allow a water and sediment content test to be performed to establish the acceptability of new fuel oil. The margin of safety provided by the DGs is unaffected by the proposed changes since there continue to be TS requirements to ensure fuel oil is of the appropriate quality for emergency DG use. The proposed changes provide the flexibility needed to improve fuel oil sampling and analysis methodologies while maintaining sufficient controls to preserve the current margins of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Michael T. Markley.

Southern Nuclear Operating Company, Inc., Docket Nos. 50-424 and 50-425, Vogtle Electric Generating Plant, Units 1 and 2, Burke County, Georgia

Date of amendment request: November 15, 2016. A publicly-available version is in ADAMS under Accession No. ML16320A219.

Description of amendment request: The amendments would add technical specifications (TS) Limiting Condition for Operation (LCO) 3.0.10 for unavailable barriers as described in TSTF-427, Revision 2, “Allowance for Non Technical Specification Barrier Degradation on Supported System OPERABILITY.” The NRC approved TSTF-427, Revision 2, as a part of the consolidated line item improvement process on October 3, 2006 (71 FR 58444).

Basis for proposed no significant hazards consideration determination: As required by 10 CFR 50.91(a), the licensee has provided its analysis of the issue of no significant hazards consideration, which is presented below:

Criterion 1—The Proposed Change Does Not Involve a Significant Increase in the Probability or Consequences of an Accident Previously Evaluated

The proposed change allows a delay time for entering a supported system technical specification (TS) when the inoperability is due solely to an unavailable barrier if risk is assessed and managed. The postulated initiating events which may require a functional barrier are limited to those with low frequencies of occurrence, and the overall TS system safety function would still be available for the majority of anticipated challenges. Therefore, the probability of an accident previously evaluated is not significantly increased, if at all. The consequences of an accident while relying on the allowance provided by proposed LCO 3.0.9 are no different than the consequences of an accident while relying on the TS required actions in effect without the allowance provided by proposed LCO 3.0.9. Therefore, the consequences of an accident previously evaluated are not significantly affected by this change. The addition of a requirement to assess and manage the risk introduced by this change will further minimize possible concerns.

Therefore, this change does not involve a significant increase in the probability or consequences of an accident previously evaluated.

Criterion 2—The Proposed Change Does Not Create the Possibility of a New or Different Kind of Accident from any Previously Evaluated

The proposed change does not involve a physical alteration of the plant (no new or different type of equipment will be installed). Allowing delay times for entering supported system TS when inoperability is due solely to an unavailable barrier, if risk is assessed and managed, will not introduce new failure modes or effects and will not, in the absence of other unrelated failures, lead to an accident whose consequences exceed the consequences of accidents previously evaluated. The addition of a requirement to assess and manage the risk introduced by this change will further minimize possible concerns.

Thus, this change does not create the possibility of a new or different kind of accident from an accident previously evaluated.

Criterion 3—The Proposed Change Does Not Involve a Significant Reduction in the Margin of Safety

The proposed change allows a delay time for entering a supported system TS when the inoperability is due solely to an unavailable barrier, if risk is assessed and managed. The postulated initiating events which may require a functional barrier are limited to those with low frequencies of occurrence, and the overall TS system safety function would still be available for the majority of anticipated challenges. The risk impact of the proposed TS changes was assessed following the three-tiered approach recommended in RG [Regulatory Guide] 1.177. A bounding risk assessment was performed to justify the proposed TS changes. This application of LCO 3.0.9 is predicated upon the licensee's performance of a risk assessment and the management of plant risk. The net change to the margin of safety is insignificant as indicated by the anticipated low levels of associated risk (ICCDP [incremental conditional core damage probability] and ICLERP [incremental conditional large early release probability]) as shown in Table 1 of Section 3.1.1 in the Safety Evaluation.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Michael T. Markley.

Tennessee Valley Authority, Docket Nos. 50-390 and 50-391, Watts Bar Nuclear Plant (WBN), Units 1 and 2, Rhea County, Tennessee

Date of amendment request: October 20, 2016. A publicly-available version is in ADAMS under Accession No. ML16294A551.

Description of amendment request: The amendments would revise the Technical Specifications related to the auxiliary building gas treatment system (ABGTS) to provide an action for when the auxiliary building secondary containment enclosure (ABSCE) boundary is degraded, and to allow the ABSCE boundary to be open intermittently under administrative controls without entering the associated ABGTS limiting condition for operation. The proposed changes are consistent with NUREG-1431, “Standard Technical Specifications Westinghouse Plants,” Revision 4, dated April 2012 (ADAMS Accession No. ML12100A222).

Basis for proposed no significant hazards consideration determination: As required by 10 CFR 50.91(a), the licensee has provided its analysis of the issue of no significant hazards consideration, which is presented below:

1. Does the proposed amendment involve a significant increase in the probability or consequence of an accident previously evaluated?

Response: No.

The proposed changes do not require physical changes to plant systems, structures, or components. The ABGTS is an accident mitigating feature. As such, ABGTS is not associated with a potential accident-initiating mechanism.

Therefore, the changes do not affect accident or transient initiation or consequences.

The proposed new condition for the ABGTS TS would permit a 24 hour period to restore an inoperable pressure boundary to operable status. The consequences of implementing the 24 hour completion time are reasonable based upon the low probability of a design basis accident occurring during this time period, and the availability of a functional ABGTS train to provide a filtered release to the environment (albeit with the potential for unfiltered leakage).

For cases where the ABSCE boundary is opened intermittently under administrative controls, appropriate compensatory measures would be required by the proposed TS to ensure the ABSCE boundary can be rapidly restored and the dose analysis assumptions can be supported. Based on the administrative controls required to rapidly restore an opened ABSCE boundary, the accident consequences do not cause an increase in dose above the applicable General Design Criteria, Standard Review Plan, or 10 CFR 100 limits. The plant operators will continue to maintain the ability to mitigate a design basis event.

Therefore, the proposed change does not involve a significant increase in the probability or consequence of an accident previously evaluated.

2. Does the proposed amendment create the possibility of a new or different kind of accident from any accident previously evaluated?

Response: No.

The proposed changes would not require any new or different accidents to be postulated and subsequently evaluated, since no changes are being made to the plant that would introduce any new accident causal mechanisms. This license amendment request does not impact any plant systems that are potential accident initiators; nor does it have any significantly adverse impact on any accident mitigating systems.

Therefore, the proposed change does not create the possibility of a new or different kind of accident from any accident previously evaluated.

3. Does the proposed amendment involve a significant reduction in a margin of safety?

Response: No.

The proposed changes do not alter the permanent plant design, including instrument setpoints, nor does it change the assumptions contained in the safety analyses. Margin of safety is related to the ability of the fission product barriers to perform their design functions during and following accident conditions. These barriers include the fuel cladding, the reactor coolant system, and the containment system. The performance of these barriers will not be significantly degraded by the proposed changes. The proposed changes would allow the ABSCE boundary to be degraded for a limited period of time (24 hours). However, the probability of a design basis event occurring during this time is low. Additionally, a functional ABGTS train will be available to provide a filtered release to the environment (albeit with the potential for unfiltered leakage). When the ABSCE boundary is open on an intermittent basis, as permitted by the changes proposed in this amendment request, administrative controls would be in place to ensure that the integrity of the pressure boundaries could be rapidly restored and the dose analysis assumptions can be supported. Therefore, it is expected that the plant and the operators would maintain the ability to mitigate design basis events and none of the fission product barriers would be affected by this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Sherry A. Quirk, Executive Vice President and General Counsel, Tennessee Valley Authority, 400 West Summit Hill Drive, 6A Tower West, Knoxville, TN 37902.

NRC Branch Chief: Benjamin G. Beasley.

Tennessee Valley Authority, Docket Nos. 50-390 and 50-391, Watts Bar Nuclear Plant, Units 1 and 2, Rhea County, Tennessee

Date of amendment request: October 17, 2016. A publicly-available version is in ADAMS under Accession No. ML16291A543.

Description of amendment request: The amendments would revise the Technical Specifications (TSs) to allow a one-time extension of the frequency for performing certain TS Surveillance Requirements (SRs) related to verifying the operability of alternating current electrical power sources.

Basis for proposed no significant hazards consideration determination: As required by 10 CFR 50.91(a), the licensee has provided its analysis of the issue of no significant hazards consideration, which is presented below:

1. Does the proposed amendment involve a significant increase in the probability or consequences of an accident previously evaluated?

Response: No.

The requested action is a one-time extension to the performance interval of a limited number of TS surveillance requirements. The performance of these surveillances, or the extension of these surveillances, is not a precursor to an accident. Performing these surveillances or failing to perform these surveillances does not affect the probability of an accident. Therefore, the proposed delay in performance of the SRs in this amendment request does not increase the probability of an accident previously evaluated.

A delay in performing these surveillances does not result in a system being unable to perform its required function. In the case of this one-time extension request, the short period of additional time that the systems and components will be in service before the next performance of the surveillance will not affect the ability of those systems to operate as designed. Therefore, the systems required to mitigate accidents will remain capable of performing their required function. No new failure modes have been introduced because of this action and the consequences remain consistent with previously evaluated accidents. On this basis, the proposed delay in performance of the SRs in this amendment request does not involve a significant increase in the consequences of an accident.

Therefore, the proposed change does not involve a significant increase in the probability or consequences of an accident previously evaluated.

2. Does the proposed amendment create the possibility of a new or different kind of accident from any accident previously evaluated?

Response: No.

The proposed amendment does not involve a physical alteration of any system, structure, or component (SSC) or a change in the way any SSC is operated. The proposed amendment does not involve operation of any SSCs in a manner or configuration different from those previously recognized or evaluated. No new failure mechanisms will be introduced by the one-time SR extensions being requested.

Therefore, the proposed change does not create the possibility of a new or different kind of accident from any accident previously evaluated.

3. Does the proposed amendment involve a significant reduction in a margin of safety?

Response: No.

The proposed amendment is a one-time extension of the performance interval of a limited number of TS surveillance requirements. Extending these surveillance requirements does not involve a modification of any TS limiting conditions for operation. Extending these SRs does not involve a change to any limit on accident consequences specified in the license or regulations. Extending these SRs does not involve a change in how accidents are mitigated or a significant increase in the consequences of an accident. Extending these SRs does not involve a change in a methodology used to evaluate consequences of an accident. Extending these SRs does not involve a change in any operating procedure or process.

The instrumentation and components involved in this request have exhibited reliable operation based on current test results. The current testing includes power ascension testing and surveillance testing that either partially or fully exercised the components. Some components have been evaluated for extended testing intervals greater than 18 months but are set at WBN to an 18-month frequency.

Based on the limited additional period of time that the systems and components will be in service before the surveillances are next performed, as well as the operating experience that these surveillances are typically successful when performed, it is reasonable to conclude that the margins of safety associated with these SRs will not be affected by the requested extension.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Sherry A. Quirk, Executive Vice President and General Counsel, Tennessee Valley Authority, 400 West Summit Hill Drive, 6A West Tower, Knoxville, TN 37902.

NRC Branch Chief: Benjamin G. Beasley.

TEX Operations Company LLC, Docket Nos. 50-445 and 50-446, Comanche Peak Nuclear Power Plant (CPNPP), Unit Nos. 1 and 2, Somervell County, Texas

Date of amendment request: December 14, 2016. A publicly-available version is in ADAMS under Accession No. ML16351A200.

Description of amendment request: The amendments would revise the licensee's name from “TEX Operations Company LLC” to “Vistra Operations Company LLC” into the CPNPP Unit 1 Operating License (NPF-87), CPNPP Unit 2 Operating License (NPF-89), and the title page of the Environmental Protection Plan.

Basis for proposed no significant hazards consideration determination: As required by 10 CFR 50.91(a), the licensee has provided its analysis of the issue of no significant hazards consideration, which is presented below:

1. Do the proposed changes involve a significant increase in the probability or consequences of an accident previously evaluated?

Response: No.

The proposed amendment changes a name of a licensee. The proposed name change is purely administrative. The functions of the licensee will not change. The proposed amendment does not alter the design, function, or operation of any plant equipment. As such, the accident and transient analyses contained in the facility updated final safety analysis reports will not be impacted.

Therefore, the proposed changes do not involve a significant increase in the probability or consequences of an accident previously evaluated.

2. Do the proposed changes create the possibility of a new or different kind of accident from any accident previously evaluated?

Response: No.

The proposed amendment changes a name of a licensee. The proposed name change is purely administrative. The functions of the licensee will not change. The proposed amendment does not alter the design, function, or operation of any plant equipment. As such, the accident and transient analyses contained in the facility updated final safety analysis reports will not be impacted.

Therefore, the proposed change does not create the possibility of a new or different kind of accident from any previously evaluated.

3. Do the proposed changes involve a significant reduction in a margin of safety?

Response: No.

The proposed amendment changes a name of a licensee. The proposed name change is purely administrative. The functions of the licensee will not change. The proposed amendment does not alter the design, function, or operation of any plant equipment. As such, the accident and transient analyses contained in the facility updated final safety analysis reports will not be impacted.

Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1111 Pennsylvania Avenue NW., Washington, DC 20004.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-336, Millstone Power Station, Unit No. 2 (MPS2), New London County, Connecticut

Date of amendment request: December 14, 2016.

Brief description of amendment: The amendment revised the MPS2 Technical Specifications (TSs) to add a note to TS Surveillance Requirement (SR) 4.1.3.1.2, control element assembly (CEA) freedom of movement surveillance, such that CEA 39 may be excluded from the remaining quarterly performance of the SR in Cycle 24. The amendment allows the licensee to delay exercising CEA 39 until after repairs can be made during the next outage.

Date of issuance: February 7, 2017.

Effective date: As of the date of issuance and shall be implemented within 30 days of issuance.

Amendment No.: 333. A publicly-available version is in ADAMS under Accession No. ML17018A000; documents related to this amendment are listed in the Safety Evaluation enclosed with the amendment.

Renewed Facility Operating License No. DPR-65: Amendment revised the Renewed Facility Operating License and TSs.

Date of initial notice in Federal Register: January 3, 2017 (82 FR 157).

The Commission's related evaluation of the amendment is contained in a Safety Evaluation dated February 7, 2017.

No significant hazards consideration comments received: No.

Duke Energy Carolinas, LLC, Docket Nos. 50-413 and 50-414, Catawba Nuclear Station, Units 1 and 2, York County, South Carolina

Date of amendment request: September 25, 2013, as supplemented by letters dated January 13, 2015; January 28, 2015; February 27, 2015; March 30, 2015; April 28, 2015; July 15, 2015; August 14, 2015; September 3, 2015; December 11, 2015; January 7, 2016; March 23, 2016; June 15, 2016; August 2, 2016; September 7, 2016 and January 27, 2017.

Brief description of amendments: The amendments revised the condition for the Fire Protection Program (FPP) in the Renewed Facility Operating Licenses such that the FPP is now based on the requirements of 10 CFR 50.48(c), “National Fire Protection Association Standard NFPA 805.”

Date of issuance: February 8, 2017.

Effective date: As of the date of issuance and shall be implemented as stated within the revised License Condition 2.C.(5).

Amendment Nos.: 287 (Unit 1) and 283 (Unit 2). A publicly-available version is in ADAMS under Accession No. ML16137A308; documents related to these amendments are listed in the Safety Evaluation enclosed with the amendments.

Renewed Facility Operating License Nos. NPF-35 and NPF-52: The amendments revised the Renewed Facility Operating Licenses.

Date of initial notice in Federal Register: February 4, 2014 (79 FR 6641). The supplemental letters dated January 13, 2015; January 28, 2015; February 27, 2015; March 30, 2015; April 28, 2015; July 15, 2015; August 14, 2015; September 3, 2015; December 11, 2015; January 7, 2016; March 23, 2016; June 15, 2016; August 2, 2016; September 7, 2016 and January 27, 2017, provided additional information that clarified the application, did not expand the scope of the application as originally noticed, and did not change the staff's original proposed no significant hazards consideration determination as published in the Federal Register.

The Commission's related evaluation of the amendments is contained in a Safety Evaluation dated February 8, 2017.

No significant hazards consideration comments received: No.

Duke Energy Progress, LLC, Docket No. 50-261, H. B. Robinson Steam Electric Plant, Unit No. 2, Darlington County, South Carolina

Date of amendment request: September 16, 2013, as supplemented by letters dated November 24, and December 22, 2014; January 22, March 16, April 1, May 19, and July 31, 2015; March 16, May 25, July 25, and October 5, 2016.

Brief description of amendment: The amendment authorized the transition of the fire protection licensing basis, from 10 CFR 50.50.48(b) to 10 CFR 50.48(c), National Fire Protection Association (NFPA) 805, “Performance-Based Standard for Fire Protection for Light-water Reactor Electric Generating Plants,” 2001 edition. The revised fire protection licensing basis complies with the requirements in 10 CFR 50.48(a), 10 CFR 50.48(c), the guidance in Regulatory Guide 1.205, Revision 1, “Risk-Informed Performance-Based Fire protection for Existing Light-water Nuclear Power Plants, and NFPA 805, and follows the applicable guidance in Nuclear Energy Institute 04-02, Revision 2.

Date of issuance: February 3, 2017.

Effective date: As of the date of issuance and shall be implemented as described in the transition license conditions.

Amendment No.: 249. A publicly-available version is in ADAMS under Accession No. ML16337A264; documents related to this amendment are listed in the Safety Evaluation enclosed with the amendment.

Renewed Facility Operating License No. DPR-23: Amendment revised the Renewed Facility Operating License and Technical Specifications.

Date of initial notice in Federal Register: December 26, 2013 (78 FR 78405). The supplemental letters dated November 24, and December 22, 2014; January 22, March 16, April 1, May 19, and July 31, 2015; March 16, May 25, July 25, and October 5, 2016, provided additional information that clarified the application, did not expand the scope of the application as originally noticed, and did not change the staff's original proposed no significant hazards consideration determination as published in the Federal Register..

The Commission's related evaluation of the amendment is contained in a Safety Evaluation dated February 3, 2017.

No significant hazards consideration comments received: No.

Energy Northwest, Docket No. 50-397, Columbia Generating Station, Benton County, Washington

Date of application for amendment: March 3, 2016, as supplemented by letter dated January 19, 2017.

Brief description of amendment: The amendment revised the Technical Specification (TS) Surveillance Requirements for heaters in the Standby Gas Treatment and Control Room Emergency Filtration ventilation systems. The proposed amendment is consistent with NRC-approved Technical Specifications Task Force (TSTF) Traveler TSTF-522, Revision 0, “Revise Ventilation System Surveillance Requirements to Operate for 10 hours per Month,” as published in the Federal Register on September 20, 2012 (77 FR 58421), with variations due to plant-specific nomenclature.

Date of issuance: January 31, 2017.

Effective date: As of its date of issuance and shall be implemented within 60 days from the date of issuance.

Amendment No.: 239. A publicly-available version is in ADAMS under Accession No. ML16357A646; documents related to this amendment are listed in the Safety Evaluation enclosed with the amendment.

Renewed Facility Operating License No. NPF-21: The amendment revised the Facility Operating License and TSs.

Date of initial notice in Federal Register: May 24, 2016 (81 FR 32805). The supplemental letter dated January 19, 2017, provided additional information that clarified the application, did not change the scope of the application as originally noticed, and did not change the staff's original proposed no significant hazards consideration determination published in the Federal Register.

The Commission's related evaluation of the amendment is contained in a Safety Evaluation dated January 31, 2017.

No significant hazards consideration comments received: No.

Exelon Generation Company, LLC, Docket No. 50-244, R. E. Ginna Nuclear Power Plant, Wayne County, New York

Date of amendment request: February 4, 2016, as supplemented by letters dated April 14, June 28, and November 30, 2016.

Brief description of amendment: The amendment revised the Reactor Coolant System (RCS) Specific Activity definition and associated surveillance requirements in the R. E. Ginna Nuclear Power Plant Technical Specifications (TSs). The amendment replaced the current TS limit for RCS gross specific activity with a new limit for RCS noble gas specific activity. The changes are consistent with Technical Specification Task Force (TSTF) Improved Standard Technical Specifications Change Traveler, TSTF-490, Revision 0, “Deletion of E Bar Definition and Revision to RCS Specific Activity Tech Spec.”

Date of issuance: February 9, 2017.

Effective date: As of the date of issuance and shall be implemented within 60 days of issuance.

Amendment No.: 123. A publicly-available version is in ADAMS under Accession No. ML16358A424; documents related to this amendment are listed in the Safety Evaluation enclosed with the amendment.

Renewed Facility Operating License No. DPR-18: Amendment revised the Renewed Facility Operating License and TSs.

Date of initial notice in Federal Register: March 29, 2016 (81 FR 17506).

The supplemental letters dated April 4, June 28, and November 30, 2016, provided additional information that clarified the application, did not expand the scope of the application as originally noticed, and did not change the staff's original proposed no significant hazards consideration determination as published in the Federal Register.

The Commission's related evaluation of the amendment is contained in a Safety Evaluation dated February 9, 2017.

No significant hazards consideration comments received: No.

Florida Power & Light Company, Docket Nos. 50-250 and 50-251, Turkey Point Nuclear Generating Unit Nos. 3 and 4, Miami-Dade County, Florida

Date of application for amendments: April 4, 2016, as supplemented by letters dated September 1, November 10, and December 2, 2016.

Brief description of amendments: The amendments revised the Technical Specifications (TSs) for snubbers and added a new TS to the Administrative Controls section of the TSs describing the licensee's Snubber Testing Program. The amendments revised the snubber TS surveillance requirement (SR) by deleting specific requirements from the SR and replacing them with a requirement to demonstrate snubber operability in accordance with the licensee-controlled Snubber Testing Program. The amendments deleted a portion of the SR that requires inspections per another TS that is no longer applicable to snubbers. The amendments included additions to, deletions from, and conforming administrative changes to the TSs.

Date of issuance: February 9, 2017.

Effective date: As of the date of issuance and shall be implemented within 60 days of issuance.

Amendment Nos: 272 and 267. A publicly-available version is in ADAMS under Accession No. ML17004A292; documents related to these amendments are listed in the Safety Evaluation enclosed with the amendments.

Renewed Facility Operating License Nos. DPR-31 and DPR-41: Amendments revised the Renewed Facility Operating Licenses and TSs.

Date of initial notice in Federal Register: July 5, 2016 (81 FR 43652). The supplement dated September 1, 2016, provided additional information that clarified the application, did not expand the scope of the application as originally noticed, and did not change the staff's original proposed no significant hazards consideration (NSHC) determination as published in the Federal Register (FR). The licensee's letter dated November 10, 2016, expanded the scope of its request as originally noticed; therefore, the NRC published another notice in the FR on December 6, 2016 (81 FR 87971), which replaced the original notice in its entirety. The licensee's letter dated December 2, 2016, did not expand the scope of the application as renoticed and did not change the staff's NSHC determination that was published in the FR on December 6, 2016.

The Commission's related evaluation of the amendments is contained in a safety evaluation dated February 9, 2017.

No significant hazards consideration comments received: No.

NextEra Energy Point Beach, LLC, Docket Nos. 50-266 and 50-301, Point Beach Nuclear Plant (PBNP), Units 1 and 2, Town of Two Creeks, Manitowoc County, Wisconsin

Date of amendment requests: January 15, 2016, as supplemented by letters dated April 27, 2016 and July 27, 2016.

Brief description of amendments: The amendments eliminate technical specification (TS) 3.7.14, Primary Auxiliary Building Ventilation (VNPAB), for PBNP, Units 1 and 2. The amendments delete TS 3.7.14, VNPAB in its entirety on the basis that the VNPAB is not credited for accident mitigation and therefore does not meet the 10 CFR 50.36 criteria for inclusion in the TS.

Date of issuance: January 30, 2017.

Effective date: As of the date of issuance and shall be implemented within 90 days of issuance.

Amendment Nos.: 257 and 261. A publicly-available version is in ADAMS under Accession No. ML16349A080; documents related to these amendments are listed in the Safety Evaluation enclosed with the amendments.

Renewed Facility Operating License Nos. DPR-24 and DPR-27: Amendments revised the Renewed Facility Operating License and Technical Specifications.

Date of initial notice in Federal Register: April 26, 2016 (81 FR 24662). The supplemental letters dated April 27, 2016 and July 27, 2016, provided additional information that clarified the application, did not expand the scope of the application as originally noticed, and did not change the staff's original proposed no significant hazards consideration determination as published in the Federal Register.

The Commission's related evaluation of the amendments is contained in a Safety Evaluation dated January 30, 2017.

No significant hazards consideration comments received: No.

NextEra Energy Seabrook, LLC, Docket No. 50-443, Seabrook Station, Unit No. 1, Rockingham County, New Hampshire

Date of amendment request: February 27, 2016, as supplemented by letters dated October 27, 2016, and December 15, 2016.

Description of amendment request: The amendment revised the current emergency action level scheme to one based on Nuclear Energy Institute (NEI) guidance in NEI 99-01, Revision 6, “Development of Emergency Action Levels for Non-Passive Reactors,” dated November 2012.

Date of issuance: February 10, 2017.

Effective date: As of the date of issuance and shall be implemented within 180 days of issuance.

Amendment No.: 152. A publicly-available version is in ADAMS under Accession No. ML16358A411; documents related to this amendment are listed in the Safety Evaluation enclosed with the amendment.

Facility Operating License No. NPF-86: Amendment revised the Facility Operating License.

Date of initial notice in Federal Register: May 24, 2016 (81 FR 32808). The supplemental letters dated October 27, 2016, and December 15, 2016, provided additional information that clarified the application, did not expand the scope of the application as originally noticed, and did not change the staff's original proposed no significant hazards consideration determination as published in the Federal Register.

The Commission's related evaluation of the amendment is contained in a Safety Evaluation dated February 10, 2017.

No significant hazards consideration comments received: No.

PSEG Nuclear LLC, Docket Nos. 50-354, 50-272 and 50-311, Hope Creek Generating Station (Hope Creek), and Salem Nuclear Generating Station (Salem), Unit Nos. 1 and 2, Salem County, New Jersey

Date of amendment request: October 17, 2016, as supplemented by letter dated December 19, 2016.

Brief description of amendments: The amendments revised the technical specifications (TSs) by removing certain training program requirements. Specifically, the amendments removed TS requirements that are redundant to, or superseded by, the requirements contained in 10 CFR part 55 and 10 CFR 50.120.

Date of issuance: February 6, 2017.

Effective date: As of the date of issuance and shall be implemented within 60 days.

Amendment Nos.: 201 (Hope Creek), 317 (Salem, Unit No. 1), and 298 (Salem, Unit No. 2). A publicly-available version is in ADAMS under Accession No. ML17012A292; documents related to these amendments are listed in the Safety Evaluation enclosed with the amendments.

Renewed Facility Operating License Nos. NPF-57, DPR-70, and DPR-75: The amendments revised the Renewed Facility Operating Licenses and the TSs.

Date of initial notice in Federal Register: November 22, 2016 (81 FR 83877). The supplemental letter dated December 19, 2016, provided additional information that clarified the application, did not expand the scope of the application as originally noticed, and did not change the staff's original proposed no significant hazards consideration determination as published in the Federal Register.

The Commission's related evaluation of the amendments is contained in a Safety Evaluation dated February 6, 2017.

No significant hazards consideration comments received: No.

Southern Nuclear Operating Company, Docket No. 52-025, Vogtle Electric Generating Plant (VEGP), Unit 3, Burke County, Georgia

Date of amendment request: September 13, 2016.

Description of amendment: The amendment authorizes changes to the VEGP Units 3 and 4 Updated Final Safety Analysis Report in the form of departures from the incorporated plant specific Design Control Document Tier 2* information. The departures change the provided minimum reinforcement area in the VEGP Unit 3 column line 7.3 wall from elevation 82′-6″ to elevation 100′-0″.

Date of issuance: January 30, 2017.

Effective date: As of the date of issuance and shall be implemented within 30 days of issuance.

Amendment No.: 68. A publicly-available version is in ADAMS under Accession No. ML16350A060; documents related to this amendment are listed in the Safety Evaluation enclosed with the amendment.

Facility Combined Licenses No. NPF-91: Amendment revised the Facility Combined License.

Date of initial notice in Federal Register: October 11, 2016 (81 FR 70175).

The Commission's related evaluation of the amendment is contained in the Safety Evaluation dated January 30, 2017.

No significant hazards consideration comments received: No.

Southern Nuclear Operating Company, Docket Nos. 52-025 and 52-026, Vogtle Electric Generating Plant (VEGP), Units 3 and 4, Burke County, Georgia

Date of amendment request: May 27, 2016.

Description of amendment: The amendment authorizes changes to the VEGP Units 3 and 4 Updated Final Safety Analysis Report in the form of departures from the incorporated plant specific Design Control Document Tier 2 information and involves changes to COL Appendix A Technical Specifications and associated Bases. The changes add reactor coolant density compensation to the reactor coolant flow input signal to the Reactor Trip System instrumentation for the low reactor coolant flow reactor trip function and add Technical Specification Surveillance Requirement 3.3.1.3 to the surveillances required for the Reactor Coolant Flow-Low reactor trip.

Date of issuance: January 13, 2017.

Effective date: As of the date of issuance and shall be implemented within 30 days of issuance.

Amendment No.: 65. A publicly-available version is in ADAMS under Accession No. ML16348A073; documents related to this amendment are listed in the Safety Evaluation enclosed with the amendment.

Facility Combined Licenses Nos. NPF-91 and NPF-92: Amendment revised the Facility Combined License.

Date of initial notice in Federal Register: August 2, 2016 (81 FR 50729).

The Commission's related evaluation of the amendment is contained in the Safety Evaluation dated January 13, 2017.

No significant hazards consideration comments received: No.

Dated at Rockville, Maryland, this 17th day of February 2017.
For the Nuclear Regulatory Commission.
Kathryn M. Brock,
Deputy Director, Division of Operating Reactor Licensing, Office of Nuclear Reactor Regulation.

[FR Doc. 2017-03806 Filed 2-27-17; 8:45 am]

BILLING CODE 7590-01-P